AGENCY FOR INTERNATIONAL DEVELOPMENT

Notice of Public Information Collection Requirements Submitted to OMB for Review

SUMMARY: U.S. Agency for International Development (USAID) has submitted the following information collections to OMB for review and clearance under the Paperwork Reduction Act of 1995, Public Law 104-13. Comments regarding this information collection are best assured of having their full effect if received within 30 days of this notification. Comments should be sent via e-mail to kdaphnis@omb.eop.gov or fax to 202-395-3087. Copies of submission may be obtained by calling (202) 712-1365.

SUPPLEMENTARY INFORMATION: OMB Number: OMB 0412-NEW.

Form Number: N/A.

Title: Offeror Information for Personal Services Contracts.

Type of Submission: New Information Collection.

Purpose: The purpose of this information collection is to obtain information from the offeror for personal service contract positions. This information will include administrative information, work experience, education and qualifications in addition to offerors certification.

Annual Reporting Burden:

Respondents: 5,000.

Total annual responses: 10,000.

Total annual hours requested: 5,000 hours.

Dated: January 29, 2009.
Joanne Paskar,
Chief, Information and Records Division, Office of Administrative Services, Bureau for Management.

[FR Doc. E9-2446 Filed 2-5-09; 8:45 am]

BILLING CODE 6116-01-M